DEPARTMENT OF ENERGY

Notice of Request for Information (RFI) on Regional Clean Hydrogen Hubs Implementation Strategy

AGENCY: Office Energy Efficiency and Renewable Energy, Office of Fossil Energy and Carbon Management, Office of Nuclear Energy, Office of Clean Energy Demonstrations, Department of Energy.

ACTION: Request for information.

SUMMARY: The U.S. Department of Energy (DOE) invites public comment on its request for information (RFI) number DE-FOA-0002664 regarding the implementation strategy of a DOE Funding Opportunity Announcement (FOA) to fund regional clean hydrogen hubs, as required by the Infrastructure Investment and Jobs Act also known as the Bipartisan Infrastructure Law (BIL). The information being sought is intended to assist DOE in developing the Regional Clean Hydrogen Hubs FOA. Specifically, this RFI seeks input on the regional clean hydrogen hub provisions and requirements in the BIL and how DOE should develop the overall FOA solicitation process, structure, and implementation strategy; include equity, environmental, and energy justice priorities; and evaluate market adoption and sustainability of the hubs.

DATES: Responses to the RFI must be received by March 8, 2022, by 5:00 p.m. ET.

ADDRESSES: Comments to the RFI must be provided in writing. Interested parties are to submit their written comments electronically to H2Hubs@hq.doe.gov and include “H2Hubs RFI response” in the subject line of the email. Email attachments can be provided as a Microsoft Word (.docx) file or an Adobe PDF (.pdf) file, prepared in accordance with the detailed instructions in the RFI. Documents submitted electronically should clearly indicate which topic areas and specific questions are being addressed and should be limited to no more than 25 MB in size. The complete RFI [DE-FOA-0002664] document is located at https://eere-exchange.energy.gov/.

FOR FURTHER INFORMATION CONTACT: Questions may be addressed to H2Hubs@hq.doe.gov or to Karen Dandridge at (202) 586-1042. Further instructions can be found in the RFI document [DE-FOA-0002664] posted on EERE Exchange at https://eere-exchange.energy.gov/.

SUPPLEMENTARY INFORMATION: One key pathway to achieving large-scale, commercially viable deployment of hydrogen is through matching the scaleup of clean hydrogen supplies with a concomitant and growing regional demand. Co-locating large scale clean hydrogen production with multiple end-uses can foster the development of low-cost hydrogen and the necessary supporting infrastructure to jumpstart the hydrogen economy in various market segments, create jobs, and realize emissions reduction benefits. Section 40314 of the BIL amends section 813 of the Energy Policy Act of 2005 to authorize appropriations of $8 billion for the five (5) year period encompassing fiscal years (FYs) 2022 through 2026 for the development of Regional Clean Hydrogen Hubs that aid the achievement of the clean hydrogen production standard developed under section 822(a), demonstrate the production, processing, delivery, storage, and end-use of clean hydrogen, and can be developed into a national clean hydrogen network to facilitate a clean hydrogen economy. The purpose of this RFI is to solicit feedback from industry, government agencies, state and local coalitions, academia, research laboratories, community-based organizations, and other stakeholders regarding the Regional Clean Hydrogen Hub solicitation process and implementation strategy as DOE currently envisions it. Specifically, DOE is requesting input in the following categories:

• Regional Clean Hydrogen Hub Provisions and Requirements

• Solicitation Process, FOA Structure, and Implementation Strategy

• Equity, Environmental, and Energy Justice Priorities

• Market Adoption and Sustainability of Hubs

Specific questions can be found in the RFI. The RFI [DE-FOA-0002664] is available at: https://eere-exchange.energy.gov/.

Confidential Business Information: Pursuant to 10 CFR 1004.11, any person submitting information that he or she believes to be confidential and exempt by law from public disclosure should submit via email two well-marked copies: One copy of the document marked “confidential” including all the information believed to be confidential, and one copy of the document marked “non-confidential” with the information believed to be confidential deleted. Submit these documents via email. DOE will make its own determination about the confidential status of the information and treat it according to its determination.

Signing Authority: This document of the Department of Energy was signed on February 11, 2022, by Dr. Sunita Satyapal, Director, Hydrogen and Fuel Cell Technologies Office, and DOE Hydrogen Program Coordinator, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 11, 2022.
Treena V. Garrett,
Federal Register Liaison Officer, U.S. Department of Energy.

[FR Doc. 2022-03324 Filed 2-15-22; 8:45 am]

BILLING CODE 6450-01-P